DEPARTMENT OF AGRICULTURE

Food and Nutrition Service

Agency Information Collection Activities: Proposed Collection; Comment Request; Form FNS-674, Computer System Access Request

AGENCY: Food and Nutrition Service, USDA.

ACTION: Notice.

SUMMARY: In accordance with the Paperwork Reduction Act of 1995, this notice invites the general public and other public agencies to comment on proposed information collections. The FNS-674 Form is a standard form used by the Food and Nutrition Service (FNS) to collect information necessary to grant access to FNS computer systems. The collected data will be used to identify all users granted access to FNS internal systems as required by USDA and FNS Security Policy.

DATES: Comments on this notice must be received by May 31, 2005.

ADDRESSES: Comments are invited on (a) whether the proposed collection of information is necessary for the proper performance of the functions of the agency, including whether the information has practical utility; (b) the accuracy of the agency's estimate of the burden of the proposed collection of information, including the validity of the methodology and assumptions used; (c) ways to enhance the quality, utility, and clarity of the information to be collected; (d) ways to minimize the burden of the collection of information on those who are to respond, including the use of appropriate automated, electronic, mechanical, or other technological collection techniques or other forms of information technology. Comments may be sent to Juanita Makuta, Information Systems Security Officer, Information Technology Division, Food and Nutrition Service, U. S. Department of Agriculture, 3101 Park Center Drive, Alexandria, VA 22302.

All responses to this notice will be summarized and included in the request for OMB approval. All comments will also become a matter of public record.

FOR FURTHER INFORMATION CONTACT: Requests for additional information or copies of the FNS-674 form and instructions should be directed to: Juanita Makuta, (703) 305-2241.

SUPPLEMENTARY INFORMATION: Title: FNS Computer System Access Request, Form FNS-674.

OMB Number: 0584-NEW.

Expiration Date: Not Yet Determined.

Type of Request: New Collection.

Abstract: The Office of Management and Budget Circular No. A-130, Appendix III Revised, dated February 8, 1996, requires that the information be collected. The FNS Computer System Access Request Form, FNS-674, is designed for use in all situations where access to an FNS computer system is required, where current access is required to be modified, or where access is no longer required and must be deleted. Users who access FNS systems are: State agencies, other Federal agencies, and FNS Regional Office, FNS Field Office and FNS Compliance Office users.

In State agencies, the State Coordinators provide a liaison between the State agency and the Deputy Regional Information Systems Security Officers (DRISSO), in the FNS Regional Offices, and the Information Systems Security Office in FNS Headquarters. The State Coordinator is responsible for ensuring that State users and entities comply with the FNS Information Systems Security Policy Handbook 701 and the FNS Information Systems Security Standards and Procedures Handbook 702 developed for State systems and that they maintain proper controls over FNS security features used by State clients.

The DRISSOs act on behalf of the Headquarters Information Systems Security Office to ensure that Regional, Field Office, and Compliance Office users comply with FNS handbook security policies developed for the regional environment.

Affected Public: FNS Headquarters, FNS Regional, Field Office and Compliance Office users, State agencies, other Federal agencies, and Trust Territories.

Estimated Number of Respondents: 5,000 (includes the 50 States and Trust Territories).

Estimate of Burden:

Number of responses per respondent—One.

Estimated total annual responses—5000.

Hours per response—.16666.

Total annual reporting burden—833.3.

Number of record keepers—5000.

Estimated annual hours per record keeper—.03333.

Total annual record keeping hours—166.5.

Total annual reporting and record keeping hours—999.5.

Dated: March 24, 2005.
Jerome A. Lindsay,
Acting Administrator.

[FR Doc. 05-6330 Filed 3-30-05; 8:45 am]

BILLING CODE 3410-30-P